DEPARTMENT OF THE INTERIOR

National Park Service

[NPS-SER-BICY-13588; PPSEBICY00, PPMPSPD1Z.YM0000]

Notice of Renewal of Big Cypress National Preserve Off-Road Vehicle Advisory Committee Charter

AGENCY: National Park Service, Interior.

ACTION: Notice of renewal of the big cypress national preserve off-road vehicle advisory committee.

SUMMARY: The Secretary of the Interior is giving notice of renewal of the Big Cypress National Preserve Off-Road Vehicle Advisory Committee to offer recommendations, alternatives and possible solutions to management of off-road vehicles at Big Cypress National Preserve.

FOR FURTHER INFORMATION CONTACT: Pedro Ramos, Superintendent, Big Cypress National Preserve, 33100 Tamiami Trail E, Ochopee, Florida 34141; (239) 695-1103.

SUPPLEMENTARY INFORMATION: The Big Cypress National Preserve Off-Road Vehicle Advisory Committee has been established as directed in the Off-Road Vehicle Management Plan, 2000. This plan guides the National Park Service in its management of recreational off-road vehicle (ORV) use in Big Cypress National Preserve, and tiers off of the Preserve's 1991 General Management Plan. The National Park Service agreed to prepare an ORV management plan as part of a settlement agreement negotiated in 1995 between the Florida Biodiversity Project and several Federal agencies and bureaus. The agreement settled a lawsuit which alleged failure by the agencies to comply with Federal statutes, including the Clean Water Act, the Endangered Species Act, and the National Environmental Policy Act.

The Off-Road Vehicle Management Plan, 2000 (p. 29) states “Under the proposed action, the National Park Service would establish an advisory committee of concerned citizens to examine issues and make recommendations regarding the management of ORVs in the Preserve. The establishment of the Committee meets the legal requirements of the 1972 Federal Advisory Committee Act (FACA) (Pub. L. 92-463, 1972, as amended). The advisory Committee provides access to the extensive knowledge available in the public arena and offers advice to the National Park Service in the decision-making process in a manner consistent with the FACA. This Committee is an element of the adaptive management approach used to develop best management practices for ORV use.”

As part of the ORV management plan, NPS committed to establishing the ORV Advisory Committee. In addition, the establishment of the Committee fulfills the agency's policy of civic engagement. This Committee strengthens the relationship that the NPS has with its partners and communities. The Committee is composed of individuals that represent (1) Sportsmen/ORV users; (2) landowners; (3) academia; (4) environmental advocates; (5) the state government; and (6) Tribes.

Certification: I hereby certify that the renewal of the Big Cypress Off-Road Vehicle Advisory Committee is necessary and in the public interest in connection with the performance of duties imposed on the Department of the Interior by the Act of August 25, 1916, 16 U.S.C. 1 et seq., and other statutes relating to the administration of the National Park System.

Dated: September 27, 2013.
Elizabeth Klein,
Associate Deputy Secretary.

[FR Doc. 2013-24274 Filed 10-2-13; 8:45 am]

BILLING CODE 4310-JD-P